DEPARTMENT OF HOMELAND SECURITY

U.S. Customs and Border Protection

Automated Commercial Environment (ACE) Export Manifest for Air Cargo Test: Renewal of Test

AGENCY: U.S. Customs and Border Protection; Department of Homeland Security.

ACTION: General notice.

SUMMARY: This notice announces that CBP is renewing U.S. Customs and Border Protection's (CBP's) Automated Commercial Environment (ACE) Export Manifest for Air Cargo Test, a National Customs Automation Program (NCAP) test concerning ACE export manifest capability.

DATES: The voluntary pilot initially began on August 10, 2015, was modified and extended on August 14, 2017, and was further extended on December 22, 2021. This renewal is effective June 4, 2024. The extended test will run for an additional two years from the date of publication of this notice in the Federal Register.

ADDRESSES: Applications to participate in the ACE Export Manifest for Air Cargo Test must be submitted via email to CBP Export Manifest at cbpexportmanifest@cbp.dhs.gov. In the subject line of the email, please use “ACE Export Manifest for Air Cargo Test Application”. Applications will be accepted at any time during the test period. Written comments concerning program, policy, and technical issues may also be submitted via email to CBP Export Manifest at cbpexportmanifest@cbp.dhs.gov. In the subject line of the email, please use “Comment on ACE Export Manifest for Air Cargo Test”. Comments may be submitted at any time during the test period.

FOR FURTHER INFORMATION CONTACT: Thomas J. Pagano, Branch Chief, or David Garcia, Program Manager, Outbound Enforcement and Policy Branch, Office of Field Operations, U.S. Customs and Border Protection, via email at cbpexportmanifest@cbp.dhs.gov.

SUPPLEMENTARY INFORMATION:

I. Background

The Automated Commercial Environment (ACE) Export Manifest for Air Cargo Test is a voluntary test in which participants agree to submit export manifest data to U.S. Customs and Border Protection (CBP) electronically, at least four hours prior to loading of the cargo onto the aircraft in preparation for departure from the United States. The ACE Export Manifest for Air Cargo Test is authorized under § 101.9(b) of title 19 of the Code of Federal Regulations (19 CFR 101.9(b)), which provides for the testing of National Customs Automation Program (NCAP) programs or procedures.

The ACE Export Manifest for Air Cargo Test examines the functionality regarding the filing of export manifest data for air cargo electronically in ACE. The ACE system creates a single automated export processing platform for certain export manifest, commodity, licensing, export control, and export targeting transactions. This will reduce costs for CBP, partner government agencies, and the trade community, as well as improve facilitation of export shipments through the supply chain.

The ACE Export Manifest for Air Cargo Test will also assess the feasibility of requiring the manifest information to be filed electronically in ACE within a specified time before the cargo is loaded on the aircraft. This capability will enable CBP to calculate the risk and effectively identify and inspect shipments prior to loading of cargo to ensure compliance with all U.S. export laws.

CBP announced the procedures and criteria related to participation in the ACE Export Manifest for Air Cargo Test in a notice published in the Federal Register on July 10, 2015 (80 FR 39790). This test was originally set to run for approximately two years. On August 14, 2017, CBP extended the test period for one additional year (82 FR 37888). At that time, CBP also modified the original notice, making certain of the data elements optional, and opened the test to accept additional applications for participation from all parties who met the eligibility requirements.

The data elements, unless noted otherwise, are mandatory. Data elements which are “mandatory” must be provided to CBP for every shipment. Data elements which are “conditional” must be provided to CBP only if the particular information pertains to the cargo. Data elements which are “optional” may be provided to CBP but are not required. The data elements are set forth below:

(1) Exporting Carrier

(2) Marks of nationality and registration

(3) Flight number

(4) Port of lading

(5) Port of unlading

(6) Scheduled date of departure

(7) Consolidator (conditional)

(8) De-consolidator (conditional)

(9) Air waybill type (Master, House, Simple or Sub)

(10) Air waybill number

(11) Number of pieces and unit of measure (optional)

(12) Weight (kg./lb.)

(13) Number of house air waybills (optional)

(14) Shipper name and address

(15) Consignee name and address

(16) Cargo description

(17) AES Internal Transaction Number (ITN) or AES Exemption Statement/Exception Classification (per shipment)

(18) Split air waybill indicator (optional)

(19) Hazmat indicator (Yes/No)

(20) UN Number (conditional) (If the hazmat indicator is yes, the four-digit UN (United Nations) Number assigned to the hazardous material must be provided.)

(21) In-bond number (optional)

(22) Mode of transportation (containerized air cargo or noncontainerized air cargo) (optional).

For further details on the background and procedures and modifications regarding the test, please refer to the July 10, 2015 notice and August 14, 2017 extension and modification.

II. Extension of the ACE Export Manifest for Air Cargo Test Period

CBP will renew the test for another two years to continue further evaluation of the ACE Export Manifest for Air Cargo Test to determine whether electronic submission of the manifest will allow for improvements in capabilities at the departure level. The extended test will now run for two additional years from the date of publication.

III. Applicability of Initial Test Notice

All provisions found in the July 2015 notice, and modifications in the August 2017 extension, remain applicable, subject to the further extension of the time period provided herein.

IV. Paperwork Reduction Act

In accordance with the Paperwork Reduction Act of 1995 (Pub. L. 104-13, 44 U.S.C. 3507), an agency may not conduct, and a person is not required to respond to, a collection of information unless the collection of information displays a valid control number assigned by the Office of Management and Budget (OMB). The collections of information in this NCAP test have been approved by OMB in accordance with the requirements of the Paperwork Reduction Act and assigned OMB control number 1651-0001.

Diane J. Sabatino,
Acting Executive Assistant Commissioner, Office of Field Operations, U.S. Customs and Border Protection.

[FR Doc. 2024-12166 Filed 6-3-24; 8:45 am]

BILLING CODE P